DEPARTMENT OF COMMERCE

National Oceanic and Atmospheric Administration

[RTID 0648-XA072]

Endangered and Threatened Species; Take of Anadromous Fish

AGENCY: National Marine Fisheries Service (NMFS), National Oceanic and Atmospheric Administration (NOAA), Department of Commerce.

ACTION: Notice; availability of a proposed evaluation and pending determination (PEPD) and draft environmental assessment (EA) for public comment.

SUMMARY: Notice is hereby given that a PEPD and draft EA are available for public comment on two Hatchery and Genetic Management Plans (HGMPs) in the Yankee Fork River and Panther Creek. The HGMPs were submitted for review and determination under the Endangered Species Act (ESA) 4(d) Rule.

DATES: Comments must be received at the appropriate address (see ADDRESSES) no later than 5 p.m. Pacific time on April 9, 2020. Comments received after this date may not be considered.

ADDRESSES: Written responses should be addressed to the NMFS Sustainable Fisheries Division, 1201 NE Lloyd Blvd., Portland, OR 97232. Comments may be submitted by email. The mailbox address for providing email comments is: Hatcheries.Public.Comment@noaa.gov. Include in the subject line of the email comment the following identifier: Yankee Fork and Panther Creek DEA Comments.

FOR FURTHER INFORMATION CONTACT: Brett Farman at (503) 231-6222 or by email at brett.farman@noaa.gov.

SUPPLEMENTARY INFORMATION:

ESA-Listed Species Covered in This Notice

• Chinook salmon (Oncorhynchus tshawytscha): Threatened, naturally and artificially propagated

○ Snake River Fall-run (O. tshawytscha): Threatened, naturally and artificially propagated

○ Snake River Spring/Summer run: Threatened, naturally and artificially propagated

• Snake River Steelhead (O. mykiss): Threatened, naturally and artificially propagated

• Snake River Sockeye (O. nerka): Endangered, naturally and artificially propagated

Background

Section 9 of the ESA and Federal regulations prohibit the “taking” of a species listed as endangered or threatened. The term “take” is defined under the ESA to mean harass, harm, pursue, hunt, shoot, wound, kill, trap, capture, or collect, or to attempt to engage in any such conduct. NMFS may make exceptions to the take prohibitions in section 9 of the ESA for programs that are approved by NMFS under the 4(d) Rule (50 CFR 223.203(b)(6)).

The Shoshone-Bannock Tribe and the Idaho Department of Fish and Game have submitted two HGMPs under Limit 6 of the 4(d) Rule. The programs are funded by the Bonneville Power Administration (BPA) and the United States Fish and Wildlife Service (USFWS). Prior to making a final determination on the HMGPs, NMFS must take comments on how the HGMPs addresses the criteria in Limit 6 of the 4(d) Rule.

The submitted HGMPs describe two hatchery programs in the Snake River basin along with the associated monitoring and evaluation activities. The programs integrate natural-origin broodstock to supplement natural salmon populations. The programs are intended to provide fishing opportunities for tribes and states, mitigate for fish losses caused by the construction and operation of the dams on the Lower Snake River, and contribute to the survival and recovery of Snake River Spring/summer Chinook salmon in the Snake River basin.

Authority: 16 U.S.C. 1531 et seq.; 16 U.S.C. 742a et seq.

Dated: March 5, 2020.
Angela Somma,
Chief, Endangered Species Division, Office of Protected Resources, National Marine Fisheries Service.

[FR Doc. 2020-04865 Filed 3-9-20; 8:45 am]

BILLING CODE 3510-22-P